DEPARTMENT OF LABOR

Employment and Training Administration

[TA-W-61,296]

Valeo Engine Cooling: Currently Known as Titanx Engine Cooling, Inc.; Jamestown, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on May 4, 2007, applicable to workers of Valeo Engine Cooling, Jamestown, New York. The notice was published in the Federal Register on May 17, 2007 (72 FR 27855).

At the request of the State agency, the Department reviewed the certification for workers of the subject firm. The workers are engaged in the production of engine cooling products for heavy trucks.

New information shows that on May 31, 2008, EQT purchased Valeo Engine Cooling, Jamestown, New York and is currently known as TitanX Engine Cooling, Inc., Jamestown, New York. Workers wages at the subject firm are being reported under the Unemployment Insurance (UI) tax account for TitanX Engine Cooling, Inc.

Accordingly, the Department is amending this certification to include workers of the subject firm whose UI wages are reported under the successor firm, Valeo Engine Cooling, currently known as TitanX Engine Cooling, Inc., Jamestown New York.

The amended notice applicable to TA-W-61,296 is hereby issued as follows:

All workers of Valeo Engine Cooling, currently known as TitanX Engine Cooling, Inc., Jamestown, New York, who became totally or partially separated from employment on or after April 11, 2006, through May 4, 2009, are eligible to apply for adjustment assistance under Section 223 of the Trade Act of 1974, and are also eligible to apply for alternative trade adjustment assistance under Section 246 of the Trade Act of 1974.

Signed at Washington, DC, this 18th day of August 2008.
Richard Church,
Certifying Officer, Division of Trade Adjustment Assistance.

[FR Doc. E8-20040 Filed 8-28-08; 8:45 am]

BILLING CODE 4510-FN-P